DEPARTMENT OF THE INTERIOR

National Park Service

Notice of Inventory Completion: The Colorado College, Colorado Springs, CO

AGENCY: National Park Service, Interior.

ACTION: Notice.

Notice is here given in accordance with the Native American Graves Protection and Repatriation Act (NAGPRA), 25 U.S.C. 3003, of the completion of an inventory of human remains and associated funerary objects in the possession of The Colorado College, Colorado Springs, CO. The human remains and associated funerary object were removed from undocumented sites in the southwestern United States and Combe Wash, San Juan County, UT.

This notice is published as part of the National Park Service's administrative responsibilities under NAGPRA, 25 U.S.C. 3003 (d)(3). The determinations within this notice are the sole responsibility of the museum, institution, or Federal agency that has control of the Native American human remains and associated funerary objects. The National Park Service is not responsible for the determinations within this notice.

A detailed assessment of the human remains and associated funerary object was made by The Colorado College professional staff in consultation with representatives of the Hopi Tribe of Arizona; Navajo Nation, Arizona, New Mexico & Utah; Pueblo of Acoma; Pueblo of Cochiti; Pueblo of Isleta; Pueblo of Jemez; Pueblo of Laguna; Pueblo of Nambe; Pueblo of Picuris; Pueblo of Pojoaque; Pueblo of San Felipe; Pueblo of San Ildefonso; Pueblo of San Juan; Pueblo of Sandia; Pueblo of Santa Ana; Pueblo of Santa Clara; Pueblo of Santo Domingo; Pueblo of Taos; Pueblo of Tesuque; Pueblo of Zia; Ysleta del Sur Pueblo; and Zuni Tribe of the Zuni Reservation, New Mexico.

On unknown dates, human remains representing 10 individuals were removed from sites in the southwestern United States. The human remains, believed to have been donated to The Colorado College, were a part of the former Colorado College museum collections, which were transferred to the Anthropology Department in the 1960s and 1970s. The human remains were curated from 1981 until 1989 in the Anthropology Department Archaeology Laboratory in Palmer Hall. In 1989, the human remains were moved to the Biological Anthropology Classroom/Laboratory of Barnes Science Center. No known individuals were identified. No associated funerary objects are present.

The specific proveniences are unknown, but a physical anthropological assessment indicates that the human remains are ancestral Puebloan based on the type of cranial deformation. Pueblo oral traditions and archeological evidence indicate that ancient Puebloan societies have a relationship of shared group identity with modern Pueblo communities in the southwestern United States.

On an unknown date, human remains representing one infant individual were removed from a site near Comb Wash, San Juan County, UT. The specific provenience is unknown, but records from the former Colorado College museum indicate that the human remains are probably from this area. The human remains, believed to have been donated to The Colorado College, were a part of the former Colorado College museum collections, which were transferred to the Anthropology Department in the 1960s and 1970s. The human remains were curated from 1981 until 1989 in the Anthropology Department Archaeology Laboratory in Palmer Hall. In 1989, the human remains were moved to the Biological Anthropology Classroom/Laboratory of Barnes Science Center. No known individual was identified. The one associated funerary object is a woven fiber bag that encases the naturally mummified infant.

A physical anthropological assessment of the human remains indicates that the human remains are ancestral Puebloan based on the type of cranial deformation. The type and style of associated funerary object is also ancestral Puebloan. A relationship of shared group identity can reasonably be traced between ancestral Puebloan peoples and modern Puebloan peoples based on oral tradition and scientific studies.

Officials of The Colorado College have determined that, pursuant to 25 U.S.C. 3001 (9-10), the human remains described above represent the physical remains of 11 individuals of Native American ancestry. Officials of The Colorado College also have determined that, pursuant to 25 U.S.C. 3001 (3)(A), the one object described above is reasonably believed to have been placed with or near individual human remains at the time of death or later as part of the death rite or ceremony. Lastly, officials of The Colorado College have determined that, pursuant to 25 U.S.C. 3001 (2), there is a relationship of shared group identity that can be reasonably traced between the Native American human remains and associated funerary object and the Hopi Tribe of Arizona; Pueblo of Acoma; Pueblo of Cochiti; Pueblo of Isleta; Pueblo of Jemez; Pueblo of Laguna; Pueblo of Nambe; Pueblo of Picuris; Pueblo of Pojoaque; Pueblo of San Felipe; Pueblo of San Ildefonso; Pueblo of San Juan; Pueblo of Sandia; Pueblo of Santa Ana; Pueblo of Santa Clara; Pueblo of Santo Domingo; Pueblo of Taos; Pueblo of Tesuque; Pueblo of Zia; Ysleta del Sur Pueblo; and Zuni Tribe of the Zuni Reservation, New Mexico.

Representatives of any other Indian tribe that believes itself to be culturally affiliated with the human remains and associated funerary object should contact Joyce Eastburg, Legal Assistant, The Colorado College, 14 East Cache La Poudre Street, Colorado Springs, CO 80903, telephone (719) 389-6703, before May 12, 2004. Repatriation of the human remains and associated funerary object to the Hopi Tribe of Arizona; Pueblo of Acoma; Pueblo of Cochiti; Pueblo of Isleta; Pueblo of Jemez; Pueblo of Laguna; Pueblo of Nambe; Pueblo of Picuris; Pueblo of Pojoaque; Pueblo of San Felipe; Pueblo of San Ildefonso; Pueblo of San Juan; Pueblo of Sandia; Pueblo of Santa Ana; Pueblo of Santa Clara; Pueblo of Santo Domingo; Pueblo of Taos; Pueblo of Tesuque; Pueblo of Zia; Ysleta del Sur Pueblo; and Zuni Tribe of the Zuni Reservation, New Mexico may proceed after that date if no additional claimants come forward.

The Colorado College is responsible for notifying the Hopi Tribe of Arizona; Navajo Nation, Arizona, New Mexico & Utah; Pueblo of Acoma; Pueblo of Cochiti; Pueblo of Isleta; Pueblo of Jemez; Pueblo of Laguna; Pueblo of Nambe; Pueblo of Picuris; Pueblo of Pojoaque; Pueblo of San Felipe; Pueblo of San Ildefonso; Pueblo of San Juan; Pueblo of Sandia; Pueblo of Santa Ana; Pueblo of Santa Clara; Pueblo of Santo Domingo; Pueblo of Taos; Pueblo of Tesuque; Pueblo of Zia; Ysleta del Sur Pueblo; and Zuni Tribe of the Zuni Reservation, New Mexico that this notice has been published.

Dated: February 25, 2004.
John Robbins,
Assistant Director, Cultural Resources.

[FR Doc. 04-8169 Filed 4-9-04; 8:45 am]

BILLING CODE 4310-50-P